DEPARTMENT OF LABOR

Employment and Training Administration

[TA-W-71,516]

IHSS/Nazi Mokhtari, Mission Hills, CA; Notice of Termination of Investigation

Pursuant to Section 221 of the Trade Act of 1974, as amended, an investigation was initiated in response to a petition filed on July 2, 2009, by a State Workforce Officer on behalf of workers of IHSS/Nazi Mokhtari, Mission Hills, California.

The petitioner has requested that the petition be withdrawn. Accordingly, the investigation has been terminated.

Signed at Washington, DC, this 1st day of September 2009.
Richard Church,
Certifying Officer, Division of Trade Adjustment Assistance.

[FR Doc. E9-29174 Filed 12-7-09; 8:45 am]

BILLING CODE 4510-FN-P